DEPARTMENT OF THE INTERIOR

Bureau of Land Management

[Docket No. NV-055-5853-EU]

Proposed Information Collection—Alternative Futures for the Upper Las Vegas Wash

AGENCY: Bureau of Land Management, Interior.

ACTION: Notice of request for comments.

SUMMARY: The Bureau of Land Management (BLM) is partnering with Utah State University to undertake a scientific study focused on the Upper Las Vegas Wash, which is managed by the BLM and located near the city of Las Vegas, Nevada. The BLM wants a better understanding of the interaction of the adjacent communities with the natural environment in this area. There are important linkages between social conditions in the greater Las Vegas metropolitan area and ecological conditions of the surrounding landscape. Ecological disturbance stemming from human use of the Upper Las Vegas Wash is complex and involves important relationships between the demographic characteristics of residents living in proximity to the area, and the nature of attachments and use patterns that can connect residents to the area. An understanding of the socio-economic characteristics of residents in conjunction with their spatial proximity to the wash will aid in our understanding of the ecological disturbance impacts, and will assist the BLM in implementing protective actions in the future. Modeling the complex linkages between ecological disturbances and the social, economic, and demographic characteristics of local populations requires analysis of both existing and newly-collected data. Thus, a critical component in this study is a social survey of residents who live adjacent to the Upper Las Vegas Wash.

In order to obtain the required information from appropriate residents, a sampling design that will capture variation in spatial proximity to the wash is needed. For the purposes of consistency, continuity, and accuracy across multiple components of this research, the same linear transects established to determine the spatial attributes of disturbance fronts will be used to define the residential areas from which we will draw representative samples of local residents.

DATES: You must submit your comments to BLM at the address below on or before January 22, 2007. The BLM will not necessarily consider any comments received after the above date.

ADDRESSES: You may mail comments to: U.S. Department of the Interior, Bureau of Land Management, Mail Stop 401LS, 1849 C Street, NW., Attention: Bureau Information Collection Clearance Officer (WO-630), Washington, DC 20240.

You may send comments via Internet to: comments_washington@blm.gov. Please include “ATTN: 1004-XXXX” and your name and address with your comments. Before including your address, phone number e-mail address, or other personal identifying information in your comment, you are advised that your entire comment—including your personal identifying information—may be made publicly available at any time. While you can ask us in your comment to withhold from public review your personal identifying information, we cannot guarantee that we will be able to so.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Gayle Marrs-Smith, CTA Project Manager, by telephone at (702) 515-5156, or by e-mail at Gayle Marrs-Smith@nv.blm.gov regarding the UPPER LAS VEGAS WASH SURVEY. Persons who use a telecommunication device for the deaf (TDD) may call the Federal Information Relay Service (FIRS) on 1-800-877-8330, 24 hours a day, seven days a week, to contact Gayle Marrs-Smith.

SUPPLEMENTARY INFORMATION: In accordance with 5 CFR 1320.12(a), BLM must provide a 60-day notice in the Federal Register concerning a proposed collection of information to solicit comments on: (1) The practical utility of the information being gathered; (2) the accuracy of the burden hour estimate; (3) ways to enhance the quality, utility, and clarity of the information to be collected; and (4) ways to minimize the burden to respondents, including the use of automated information collection techniques or other forms of information technology.

The BLM strives to include best science in rendering management decisions. Information on existing urban development and its socio-demographic composition adjacent to the Upper Las Vegas Wash is necessary to assess the impacts of future development on the sensitive resources.

Title: Alternative Futures for the Upper Las Vegas Wash.

Bureau Form Number: None.

OMB Control Number: TBD.

Type of Request: New Collection.

Description of Need: This proposal seeks approval to collect information from residents of selected neighborhoods in both Las Vegas and North Las Vegas via questionnaire in order to gain a better understanding of how socio-economic characteristics of nearby residential populations might affect the disturbance impacts in the Upper Las Vegas Wash. The questionnaire will seek information to answer the following research questions:

(1) How could variation in the spatial proximity and accessibility of residential development to the wash influence levels of both positive and negative uses of the wash environment?

(2) How could variation in the demographic composition of local neighborhood populations; particularly variation in age structure, stage in life cycle, household size and composition, income and socio-economic status levels, and racial/ethnic composition influence both levels of positive and negative uses of the wash environment?

(3) How could spatial proximity/accessibility and the demographic composition of local populations interact to influence levels of familiarity with and attachment to the wash environment?

(4) To what extent might variations in familiarity with, and attachment to, the wash environment influence local residents' perceptions about the use, management, and protection of the area?

(5) How willing are residents to impose formal as well as informal sanctions toward individuals who engage in negative uses of the wash?

Automated data collection: At this time, we will not be gathering information in an automated way.

Description of Respondents: In order to obtain the required information from appropriate residents, a sampling design that will capture variation in spatial proximity to the wash is needed. This proposal seeks approval to collect information from adults living in randomly selected households located within one-half mile corridors centered along eight linear transects. These transects have been designated for use in measuring ecological and disturbance conditions within the Upper Las Vegas Wash environment and extended south of the wash into nearby areas of residential development. The total sample size will be 1,000, with 125 residents sampled on each transect using a stratified random-sampling procedure. Each of the eight transects will be stratified into four one-mile segments. Fifty households will be randomly sampled for participation in the survey from the transect segments located within one mile of the wash; 25 households will be selected from each of the other transect segments. This will enable the recording of four different spatial gradients extending south from the wash, totaling 400 possible responses from the segments located nearest to the wash and 200 possible respondents from each of the other three gradients. In addition to this categorical breakdown of the residential location of each of the survey respondents, a more precise measure of linear distance to the wash will be calculated using the exact spatial location of each household sampled.

The data collection process will consist primarily of a drop-off/pick-up methodology. This procedure utilizes a survey instrument to obtain the desired information from respondents while increasing face-to-face interaction through personal delivery and pick up of each questionnaire, all while maintaining the same level of confidentiality that more traditional mail survey methodology affords. The procedural protocol for drop-off/pickup methodology includes delivering the survey instrument and cover letter, which explains the purpose of the study, how answers will be kept confidential at all times, and who should complete the questionnaire (any adult residing in the house age 18 or older whose birthday occurred most recently). The cover letter also informs the respondent when the researcher will be back to pick up the completed survey or instructions for leaving it in an appropriate location if the respondent is going to be away from his or her residence. Due to potential access constraints in certain neighborhoods having gated security measures, more traditional mail survey methodology will be used in those areas. The same survey instrument and cover letter will be used, but will be mailed to the sampled households with a request that the adult age 18 or older whose birthday occurred most recently complete and return the questionnaire in a provided self-addressed stamped envelope.

Estimated average number of respondents: 1,000.

Estimated average number of responses: 600.

Estimated average burden hours per response: 30 minutes.

Estimated annual reporting burden: 300 hours.

The BLM will summarize all responses to this notice and include them in the request for OMB approval. All comments will be a matter of public record.

Dated: November 15, 2006.
Ted R. Hudson,
Bureau of Land Management, Acting Division Chief of Regulatory Affairs.

[FR Doc. 06-9323 Filed 11-21-06; 8:45 am]

BILLING CODE 4310-84-M